DEPARTMENT OF COMMERCE

National Oceanic and Atmospheric Administration

RIN 0648-XF150

Fisheries of the Caribbean, Gulf of Mexico, and South Atlantic; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the South Carolina Aquarium. If granted, the EFP would authorize the South Carolina Aquarium to collect, with certain conditions, various species of snapper-grouper, dolphin, wahoo, cobia, king mackerel, Spanish mackerel, golden crab, shrimp, and spiny lobster in the Federal waters off South Carolina and North Carolina in the South Atlantic. The specimens would be used in educational exhibits displaying native marine species at the South Carolina Aquarium located in Charleston, SC.

DATES: Written comments must be received on or before April 7, 2017.

ADDRESSES: You may submit comments, identified by “NOAA-NMFS-2017-0008”, by any of the following methods:

• Electronic Submission: Submit all electronic public comments via the Federal e-Rulemaking Portal. Go to www.regulations.gov/#!docketDetail;D=NOAA-NMFS-2017-0008, click the “Comment Now!” icon, complete the required fields, and enter or attach your comments.

• Mail: Submit written comments to Nikhil Mehta, Southeast Regional Office, NMFS, 263 13th Avenue South, St. Petersburg, FL 33701.

Instructions: Comments sent by any other method (including email), to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Nikhil Mehta, 727-824-5305; email Nikhil.mehta@noaa.gov.

SUPPLEMENTARY INFORMATION: The EFP is requested under the authority of the Magnuson-Stevens Fishery Conservation and Management Act (16 U.S.C 1801 et seq.), and regulations at 50 CFR 600.745(b) concerning exempted fishing.

The proposed specimen collection involves activities otherwise prohibited by regulations at 50 CFR part 622, as they pertain to species managed by the South Atlantic Fishery Management Council (Council) including snapper-grouper, golden crab, coastal migratory pelagics, dolphin, wahoo, spiny lobster, and shrimp. The applicant requires authorization to collect 1,799 live fish, crabs, lobsters, and shrimp in the Federal waters off South Carolina, and sporadically off North Carolina. The federally-managed species to be collected by the applicant per year, over a 5-year period, listed by common name with the collection total, are: Black snapper (10); cobia (6); coney (10); dolphin (50); golden crab (5); graysby (10); groupers (Epinephelus spp. and Hyporthodus spp. including red, misty, red hind, rock hind, snowy, and yellowedge) (40); groupers (Myctoperca spp. and Cephalopholis spp. including black grouper, gag, yellowmouth, yellowfin, and scamp) (50); grunts (Haemulon spp. including cottonwick, margate, sailors choice, tomtate, and white) (250); hogfish (8); jacks including greater amberjack, almaco jack, banded rudderfish, bar jack, and lesser amberjack(200); king mackerel (15); little tunny (25); longspine porgy (50); ocean triggerfish (5); porgies including knobbed, jolthead, whitebone, and saucereye (65); porkfish (15); queen snapper (2); red porgy (25); red snapper (25); sand tilefish (10); sea basses including black, bank, and rock (100); scup (50); Atlantic spadefish (50); triggerfish (20); white shrimp (200); pink or brown shrimp (200); snappers excluding red snapper, but including yellowtail, gray, mutton, lane, cubera, silk, and blackfin (75); Spanish mackerel (15); spiny lobster (25); vermilion snapper (75); wahoo (5); and yellowtail snapper (15).

The project would use vertical hook-and-line gear with artificial and natural baits, black sea bass pots, spiny lobster traps, golden crab traps, habitat traps, octopus traps, hand nets, dip nets, and bait traps. Bait traps and minnow traps would be deployed by hand by divers using SCUBA gear. Most of the sample collection would be done in less than 300 ft (91 m) of water. No more than 5 each, black sea bass pots, lobster pots, golden crab traps, minnow traps, and bait traps would be deployed with a soak time of no more than 5 hours at a time, and will not be tied together on a groundline. Up to 10 habitat traps will also be utilized with a soak time of 7 days up to no more than 30 days. All trap and pot gear will be deployed either by hand by divers using SCUBA or through using individual nylon lines with buoys. All gear types would be utilized for the collection of requested species. This EFP would authorize sampling operations to be conducted on three vessels designated by the South Carolina Aquarium including: F/V REEL SCIENCE SC-9152-DE; F/V CUB SCOUT SC-9288-BF; and F/V MISTRESS SC-5326-BS.

All attempts would be made (venting, controlled ascent and descent, etc.) to release all non-targeted bycatch species alive. During each year of sampling requested through this EFP, there would be no traps or pots deployed from November 1 through April 30, to avoid interactions with North Atlantic right whales during their calving season. This EFP would not authorize the collection of warsaw grouper, speckled hind, goliath grouper, and Nassau grouper.

The overall intent of the project is to incorporate native species into educational exhibits at the South Carolina Aquarium. The aquarium uses these displays of native South Carolina species to teach the public about stewardship and habitat preservation.

NMFS finds this application warrants further consideration. Possible conditions the agency may impose on this permit, if it is granted, include but are not limited to, a prohibition of collection of specimens within marine protected areas, marine sanctuaries, special management zones, or artificial reefs without additional authorization. Currently, NMFS prohibits the possession of Nassau grouper, goliath grouper, speckled hind, warsaw grouper, and red snapper but intends to authorize collection of red snapper as requested in the application. NMFS would require any sea turtles taken incidentally during the course of fishing or scientific research activities to be handled with due care to prevent injury to live specimens, observed for activity, and returned to the water.

A final decision on issuance of the EFP will depend on NMFS' review of public comments received on the application, consultations with the affected states, the Council, and the U.S. Coast Guard, and a determination that it is consistent with all applicable laws.

Authority: 16 U.S.C. 1801 et seq.

Dated: March 3, 2017.
Emily H. Menashes,
Acting Director, Office of Sustainable Fisheries, National Marine Fisheries Service.

[FR Doc. 2017-04543 Filed 3-7-17; 8:45 am]

BILLING CODE 3510-22-P